DEPARTMENT OF LABOR

Employment and Training Administration

[TA-W-53,026]

Metaldyne Driveline/Hydraulics Group Currently Known As Lester Precision Die Casting, LLC, Bedford Heights, Ohio; Amended Certification Regarding Eligibility To Apply For Worker Adjustment Assistance and Alternative Trade Adjustment Assistance

In accordance with section 223 of the Trade Act of 1974 (19 U.S.C. 2273), the Department of Labor issued a Certification of Eligibility to Apply for Worker Adjustment Assistance on November 14, 2003, applicable to workers of Metaldyne Driveline/Hydraulics Group, Bedford Heights, Ohio. The notice was published in the Federal Register on December 29, 2003 (68 FR 74979). On June 17, 2005, in accordance with in accordance with Section 246 the Trade Act of 1974 (26 U.S.C. 2813), the same worker group was issued a Certification of Eligibility to Apply for Alternative Trade Adjustment Assistance.

At the request of the State Agency, the Department reviewed the certification for workers of the subject firm. The workers are engaged in the production of die cast transmission parts.

The State agency provided documentation that as of February 1, 2004, Lester Precision Die Casting, LLC became the successor firm to Metaldyne Driveline/Hydraulics Group.

It is the Department's intent to include all adversely affected workers of the firm. Accordingly, the Department is amending the certification to reflect the new ownership.

The amended notice applicable to TA-W-53,026 is hereby issued as follows:

All workers of Metaldyne Driveline/Hydraulics Group, currently known as Lester Precision Die Casting, LLC, Bedford Heights, Ohio, who became totally or partially separated from employment on or after September 17, 2002, through November 14, 2005, are eligible to apply for adjustment assistance under section 223 of the Trade Act of 1974, and are also eligible to apply for alternative trade adjustment assistance under section 246 of the Trade Act of 1974.

Signed in Washington, DC, this 19th day of July 2005.
Linda G. Poole,
Certifying Officer, Division of Trade Adjustment Assistance.

[FR Doc. E5-4210 Filed 8-4-05; 8:45 am]

BILLING CODE 4510-30-P